DEPARTMENT OF AGRICULTURE

Forest Service

Medicine Bow National Forest, Wyoming, Landscape Vegetation Analysis (LaVA) Project

AGENCY: Forest Service, USDA.

ACTION: Notice of intent to prepare an environmental impact statement.

SUMMARY: The Forest Service is preparing an environmental impact statement (EIS) on its proposed treatment of 150,000 acres of insect-infested areas of the Medicine Bow National Forest (MBNF). The Forest Service believes this treatment is necessary to ensure the future health of the MBNF.

DATES: Comments concerning the scope of the analysis must be received by August 21, 2017. The Draft Environmental Impact Statement is expected in November 2017 and the Final Environmental Impact Statement is due in March 2018.

ADDRESSES: Send written comments to: LaVA Project, Medicine Bow National Forest, 2468 Jackson Street, Laramie, WY 82070, or via facsimile to 307-745-2467, c/o LaVA Project. Written comments may also be hand-delivered to the above address between 8:00 a.m. and 4:30 p.m. Mountain Time, Monday through Friday except federal holidays. Comments may also be submitted electronically at https://cara.ecosystem-management.org/Public/CommentInput?Project=51255.

FOR FURTHER INFORMATION CONTACT: Melissa Martin, Project Manager, at 307-745-2371. Individuals who use telecommunication devices for the deaf (TDD) may call the Federal Information Relay Service (FIRS) at 1-800-811-8339 between 8:00 a.m. and 8:00 p.m., Eastern Time, Monday through Friday.

SUPPLEMENTARY INFORMATION: The Medicine Bow National Forest (MBNF) has experienced epidemic levels of mountain pine beetle and spruce bark beetle infestations since the mid to late 1990s. Although the epidemic has slowed in recent years, the infestation has left behind a changed landscape consisting primarily of regenerating forests that have an overstory of large, dead and dying trees. Action is needed to accelerate management response to this major forest health event to proactively and adaptively respond to changing forest vegetation conditions.

On March 22, 2017, Forest Service Chief Thomas L. Tidwell designated the majority of the MBNF as a landscape-scale insect and disease area under Section 602(d) of the Healthy Forests Restoration Action of 2003 (HFRA, 16 U.S.C. 6591 et seq.), as amended by Section 8204 of the Agricultural Act of 2014. These authorities provide for expedited environmental analysis and treatments to address areas affected by insect and disease infestations. Accordingly, the Medicine Bow Landscape Vegetation Analysis (LaVa) Project will proceed according to Section 104 of the HFRA and will be subject to subparts A and C of the U.S. Forest Service Project-Level Pre-decisional Administrative Review Process. Intended goals of the project include, but are not limited to, using tree cutting and/or prescribed burning to: make areas more resilient to future disturbance; restore, and enhance forest ecosystem components; supply forest products to local industries; provide for human safety; reduce wildfire risk to communities, infrastructure, and municipal water supplies; and improve, protect, and restore wildlife habitat.

The LaVA analysis area encompasses the Snowy Range and Sierra Madre Mountain Ranges of the MBNF and includes roughly 850,000 acres of National Forest System (NFS) lands. Of the 850,000 acres, the Forest Service has identified roughly 575,000 acres wherein treatment activities could be proposed; these areas are termed `treatment opportunity areas' (TOAs). Actual treatments are proposed on a subset of the TOAs (150,000-350,000 acres), as described in the Proposed Action.

Purpose and Need for Action

The purpose of the project is to respond to changed forest vegetation conditions presented by the bark beetle epidemics experienced on the MBNF. The approach is to actively manage forest vegetation using tree cutting and/or prescribed burning, consistent with the goals outlined in the Governor's Task Force on Forests (Final Report, 2015), the Western Bark Beetle Strategy (July 2011), and the Wyoming Statewide Forest Resource Strategy (2010). These goals include promoting recovery from the insect infestations, improving the resiliency of green stands to future disturbances, helping to protect forested areas on adjacent private and state land, and providing for human safety. These general goals will be adapted to local landscapes where treatments are needed based on Forest Plan direction, foreseeable conditions, and local environmental, social and economic concerns. The project is needed to:

Enhance Forest and Rangeland Resiliency to Future Insect and Disease Infestations

• Increase age class, structural, and vegetative diversity across the landscape;

• Promote forest and rangeland conditions to improve forage and wildlife habitat; and

• Actively accelerate recovery and regeneration of forest ecosystems.

Provide for Recovery of Forest Products

• Promote vegetation management to recover merchantable products; and

• Provide commercial forest products to local industries at a level commensurate with Forest Plan direction and goals.

Provide for Human Safety

• Treat hazard trees in areas not covered by the Forest-wide Hazard Tree Decision Notice (August 12, 2008);

• Treat hazard trees within and outside the wildland urban interface (WUI);

• Increase the extent of defensible space around resources at risk; and

• Create fuel breaks to slow or stop the progress of wildfires.

Provide for Protection of Infrastructure, Municipal Water Supplies, and Threatened and Endangered Species Habitat

• Treat vegetation adjacent to infrastructure and non-federally owned lands;

• Treat vegetation to protect municipal water supplies and infrastructure; and

• Treat vegetation where fire is identified as a threat to the habitat of a threatened or endangered species.

Mitigate Hazardous Fuel Loading

• Treat hazardous fuels to minimize the potential for large, high intensity/high severity wildfires; and

• Treat hazardous fuels to reduce fire behavior and the possibility of fires spreading onto adjacent, non-federal lands.

Proposed Action

The Forest Service proposes to conduct vegetation management activities on NFS lands, including inventoried roadless areas, within the Sierra Madre and Snowy Range Mountain Ranges of the MBNF. Vegetation management activities, including prescribed fire, mechanical, and hand treatment methods, could be applied to 150,000-350,000 acres to protect, restore and enhance forest ecosystem components; reduce wildfire risk to communities and municipal water supplies; supply forest products to local industries; and improve, protect, and restore wildlife habitat. Treatments would be authorized over a 10-year period beginning in 2018 and would be completed within approximately 15 years of the project decision.

Due to ever-changing conditions, the Proposed Action incorporates the principles of adaptive management in that it does not identify specific treatment units. Instead, it proposes a range of acres (150,000-350,000) that could be treated within the pre-established TOAs (575,000 acres). During project implementation, the Forest Service would cooperate with other agencies, local governments, interested stakeholders, and organizations to identify specific treatment units. Specific objectives of each treatment unit would be determined prior to any ground-disturbing activities using existing vegetation conditions and a series of project-developed field checklists. The sum of all treatments would not exceed 350,000 acres.

Specifically, the Proposed Action would allow each of the following activities to occur within the pre-established TOAs:

• Cutting trees or shrubs using a variety of treatment methods including, but not limited to, clearcutting/coppice; group and individual tree selection; salvage; mastication; sanitation; and thinning. Treatments would be designed to protect, restore, and enhance forest ecosystem components; supply forest products to local industries; provide for human safety; reduce wildfire risk to communities and municipal water supplies; and improve, protect, and restore wildlife habitat.

• Cutting trees that have encroached on grass and shrub lands to maintain desired species dominance and improve wildlife habitat.

• Prescribed burning areas using jackpot, pile burning, and broadcast burning. Maintenance burns on previously treated areas would occur to maintain desired fuels or habitat conditions.

• Prescribed burning or tree/shrub cutting on portions of inventoried roadless areas (IRAs). Treatment opportunity areas in IRAs were proposed by Cooperating Agencies and the Forest Service to protect communities at risk; threatened, endangered, and sensitive wildlife habitat; critical infrastructure; and municipal water supplies. No new permanent or temporary road construction would occur in IRAs.

• Utilizing and/or reconstructing existing open and closed NFS roads to access treatment units. Reconstruction may include road blading, culvert installation or replacement, and gravelling. Closed NFS roads would be for administrative access only (i.e., they will be managed as closed to the public) and would be returned to a closed status with the method of closure being determined at implementation.

• Constructing approximately 25 miles of new, permanent NFS roads, as necessary, to access treatment areas; the final assessment of road needs has not been determined and could be more or less. All newly constructed system roads would be physically closed to public motorized vehicle use following completion of treatment activities; however, their templates would be retained for future management entries.

• Constructing approximately 1,000 miles of temporary road, as necessary, to access treatment areas; the final assessment of road needs has not been determined and could be more or less. While open, the roads would be for administrative use only (i.e., they would be managed as closed to the public). Temporary roads would be decommissioned following treatment activities to preclude future motorized use and to restore ecological function; decommissioning returns a road to a natural state. Decommissioning methods may include, but are not limited to, re-contouring the road, ripping/scarifying the roadbed, removing culverts, installing drainage features, creating physical barriers to preclude motorized travel, scattering wood/rock debris onto the road, applying seed and mulch to the area, and posting signs.

• Conducting regeneration surveys, noxious weed control, native grass seeding, and road maintenance.

• Using a combination of commercial timber sales, service contracts, stewardship contracts, cooperative authorities, partner capacity, and Forest Service crews to implement the project.

Adaptive Management Process: Due to the adaptive nature of the Proposed Action (i.e., a range of treatment acres v. identification of specific treatment units), the Forest Service will develop standards, protocols, and monitoring requirements to guide project implementation. Under this scenario, the Forest Service would:

• Complete all required surveys for each individual treatment area; complete required layout and marking of each treatment area; determine appropriate design features to be applied; and document compliance with requirements of the environmental impact statement using a set of pre-established field checklists.

• Perform monitoring during and following implementation of individual treatment activities to ensure treatments are implemented as planned and that project objectives are being attained.

• Establish an annual monitoring review with interested stakeholders, partners, and collaborative groups to ensure treatments are implemented as planned and that project objectives are being attained.

Possible Alternatives

At a minimum, the environmental impact statement will disclose the effects of the Proposed Action and a No Action alternative. The No Action alternative represents no change from current conditions and serves as the baseline for the comparison among alternatives. An alternative to the Proposed Action may be developed in response to public comments.

Nature of Decision To Be Made

The Forest Supervisor of the MBNF is the deciding official for the LaVA Project. Once the NEPA analysis is completed, he will decide: Whether or not to implement, in part or full, the proposed actions or other alternatives; rationale for the decision; and design criteria, mitigation and monitoring requirements necessary for project implementation.

Scoping Process

This notice of intent initiates the scoping process, which guides the development of the environmental impact statement. It is important that reviewers provide comments at such times and in such a manner that they are useful to the agency's preparation of the environmental impact statement. Therefore, comments should be provided prior to the close of the comment period and should clearly articulate the reviewer's concerns and contentions. A more detailed scoping document may be accessed at http://data.ecosystem-management.org/nepaweb/nepa_project_exp.php?project=51255.

Comments received in response to this solicitation, including names and addresses of those who comment, will be part of the public record for this proposed action. Comments submitted anonymously will be accepted and considered; however, they will not become part of the public record.

Objection Process

The Forest Service is operating under Part 218—Project-level Pre-decisional Administrative Review Process (hereinafter referred to as `objection'), 36 CFR. 218 Subparts A and C, for this analysis. Per these regulations, individuals and entities who submit timely, specific written comments regarding a proposed project or activity during any designated opportunity for public comment will have standing to file an objection. This includes requests for comments during this initial scoping period as well as comments submitted during the 45-day comment period for the draft environmental impact statement.

It is the responsibility of persons providing comments to submit them by the close of established comment periods. Only those who submit timely and specific written comments will have eligibility (36 CFR 218.5) to file an objection under 36 CFR 218.8. For objection eligibility, each individual or representative from each entity submitting timely and specific written comments must either sign the comment or verify identity upon request. Individuals and organizations wishing to be eligible to object must meet the information requirements in § 218.25(a)(3). Names and contact information submitted with comments will become part of the public record and may be released under the Freedom of Information Act.

Dated: June 23, 2017.
Jeanne M. Higgins,
Acting Associate Deputy Chief, National Forest System.

[FR Doc. 2017-15322 Filed 7-20-17; 8:45 am]

BILLING CODE 3411-15-P